DEPARTMENT OF AGRICULTURE

Animal and Plant Health Inspection Service

9 CFR Parts 56, 145, 146, and 147

[Docket No. APHIS-2022-0056]

RIN 0579-AE74

National Poultry Improvement Plan and Auxiliary Provisions

AGENCY: Animal and Plant Health Inspection Service, USDA.

ACTION: Final rule.

SUMMARY: We are amending the regulations governing the National Poultry Improvement Plan (NPIP). These amendments, among other things, condition indemnity for low pathogenicity avian influenza on adherence to biosecurity plans, clarify existing provisions of the regulations, fix editorial errors, and align the regulations more closely with current producer practices. These changes were voted on and approved by the voting delegates at the NPIP's 2022 National Plan Conference.

DATES: Effective October 30, 2025.

FOR FURTHER INFORMATION CONTACT: Dr. Elena Behnke, National Poultry Improvement Plan, VS, APHIS, USDA, 1506 Klondike Road, Suite 301, Conyers, GA 30094-5104; (770) 922-3496.

SUPPLEMENTARY INFORMATION:

Background

The National Poultry Improvement Plan (NPIP, also referred to below as “the Plan”) is a cooperative Federal-State-industry mechanism for controlling certain poultry diseases. The Plan consists of a variety of programs intended to prevent and control poultry diseases. Participation in all Plan programs is voluntary, but breeding flocks, hatcheries, and dealers must first qualify as “U.S. Pullorum-Typhoid Clean” as a condition for participating in the other Plan programs.

The Plan identifies States, independent flocks, hatcheries, dealers, and slaughter plants that meet certain disease control standards specified in the Plan's various programs. As a result, customers can buy poultry that has tested clean of certain diseases or that has been produced under disease-prevention conditions.

The regulations in 9 CFR parts 56, 145, 146, and 147 (referred to below as “the regulations”) contain the provisions of the Plan. The Animal and Plant Health Inspection Service (APHIS) amends these provisions from time to time to incorporate new scientific information and technologies within the Plan, and to ensure the plan reflects changes to the poultry industry itself.

On June 11, 2024, we published in the Federal Register (89 FR 49107-49118, Docket No. APHIS-2022-0056) a proposal ¹ to amend the regulations by updating and clarifying several provisions, including those concerning NPIP participation, voting requirements, testing procedures, and standards.

¹ To view the proposed rule, supporting documents, and the comments we received go to www.regulations.gov. Enter APHIS-2022-0056 in the Search field.

We solicited comments concerning our proposal for 60 days ending August 12, 2024. We received eight comments by that date. The comments were from three private citizens, a State department of agriculture, an organization representing turkey production within the United States, an organization representing egg production within the United States, an organization representing State agricultural interests, and an industry group.

Two commenters supported the rule, and one was generally opposed. Other commenters did not articulate an opinion regarding the rule overall but commented on various provisions.

We discuss the comments that we received below, by topic.

General Opposition

One commenter asserted that the proposed rule is excessive, would prove impracticable for domestic producers, and would result in greater importation of foreign poultry products.

The commenter provided no evidence in support of these contentions. The provisions of the proposed rule were largely voluntary and were advanced by the industry itself at the NPIP's 2022 National Plan Conference as being in the industry's best interests.

Comment Regarding Alternative Requirements for Breeders

One commenter suggested that a number of certifications for breeders were cost-prohibitive for small-scale rare and exhibition bird breeders. Specifically, the commenter stated that it could adhere to the testing requirements for U.S. Pullorum Typhoid (PT) clean status, but other certifications for highly pathogenic avian influenza (HPAI) involved cost-prohibitive testing. However, the commenter stated that it had a “closed flock,” that did not augment the flocks through external additions but solely through on-site farm breeding. Based on its understanding of the relevant data, the commenter stated that there was little evidence of vertical transmission of HPAI from hatching eggs to adult birds in such closed production systems. The commenter inquired if we would consider regulatory revisions to clarify that small-scale rare and exhibition bird hatching eggs present a low risk of HPAI transmission.

The commenter claimed difficulty obtaining testing materials due to limited availability from a single manufacturer. The commenter suggested adding regulations that offer options that allow more flexibility when the supply of testing materials is low to reduce breeder burden.

The only prerequisite for NPIP participation is the Pullorum Typhoid (PT) Clean classification. Additional classifications such as HPAI testing and its related costs are voluntary. With regard to the regulatory revisions suggested by the commenter, § 147.44 of the regulations sets forth a submission process for proposed changes to the regulations. Under the terms of that section, under ordinary circumstances, proposals for changes to the regulations should go through the Biennial Conference for consideration, and should be submitted at least 150 days prior to the meeting, with allowance for proposals submitted closer to the date of the meeting to be entertained. Outside of this process, the NPIP General Conference Committee (GCC) may recommend changes to the regulations when postponing the changes until the next Biennial Conference would seriously impair the operation of NPIP. APHIS may initiate changes of our own accord if we determine them to be necessary and in the public interest. We do not consider it in the public interest to obviate the process set forth in § 147.44 of the regulations to initiate the changes suggested by the commenter. As a result, we encourage the commenter to submit the suggested changes through the process set forth in § 147.44 of the regulations.

The commenter also stated that online marketplaces were functioning as a means of circumventing regulations governing the shipment of hatching eggs.

This concern is outside the scope of the regulations and the jurisdiction of NPIP.

Comments Regarding Biosecurity Plans

9 CFR part 56 contains our regulations governing the payment of indemnity for low pathogenicity avian influenza (LPAI). The regulations currently require States to maintain initial State response and containment plans (ISRCPs) in order for producers in the State to be eligible for indemnity and/or compensation for 100 percent of eligible costs under the regulations. The regulations further require that each ISRCP must contain a minimum biosecurity plan to be followed by all producers in the State. In our proposed rule, we proposed to clarify that the biosecurity plan is not required for producers below size thresholds for inclusion in the NPIP. However, we also proposed revising the ISRCP requirements to require States to determine that the biosecurity plans are in place and being followed and to require States to audit the plans to ensure that the plans are in compliance with the NPIP Program Standards.

Two commenters addressed our proposed requirement to have States ensure that biosecurity plans are in place and being followed. First, they suggested voluntary versus mandatory biosecurity plans for flocks in ISRCP due to the lack of resources to enforce such requirements.

Although we understand the limited resources noted by the commenters, as we stated in the proposed rule, the regulations already require that ISRCPs include a minimum biosecurity plan followed by all poultry producers. Our proposed regulatory revisions were to ensure that this existing ISRCP requirement, which has been in effect since 2006, is, in fact, being carried out and producers in the State are in fact following the minimum biosecurity plan. As we noted in the 2006 interim rule that established the requirement (71 FR 56302-56333, Docket No. APHIS-2005-0109), producer biosecurity plans are a necessary component for APHIS to have confidence that a State is fully capable of determining whether H5/H7 LPAI is present in flocks that participate in NPIP within the State and taking action to respond to any outbreaks of LPAI that may occur within the State.

While APHIS is committed to working with Official State Agencies (OSAs) to lessen enforcement burden, the above comments suggest States were not enforcing the requirement. This underscores, rather than undermines, the need for the regulatory revisions in the proposed rule.

One commenter expressed concerns regarding farm auditing of biosecurity plans. The commenter inquired about provisions for situations (e.g. outbreaks, lack of resources, etc.) when conducting on-site farm audits would not be possible.

We acknowledge that historically, biosecurity audits for both HPAI and LPAI have been paper-based, and evaluated a producer's biosecurity plans against the biosecurity principles contained in NPIP Program Standard E at least once every two years in order to review documentation and ensure biosecurity compliance. However, while a December 2024 interim rule (89 FR 106981-106996, Docket No. APHIS-2023-0088) revised our HPAI indemnity regulations to require on-premises biosecurity audits for certain producers as a condition of indemnification, APHIS will continue to use paper-based audits within the context of its LPAI indemnity regulations.

APHIS believes that continued use of paper-based audits for LPAI is justified. HPAI, unlike LPAI, is a foreign animal disease with a high mortality rate. Accordingly, the goals for biosecurity plans within the two programs differ. As stated above, within APHIS' LPAI control program, producer biosecurity plans are a necessary component for APHIS to have confidence that a State is fully capable of determining whether H5/H7 LPAI is present in flocks that participate in NPIP within the State and taking action to respond to any outbreaks of LPAI that may occur within the State. Within the context of the HPAI program, biosecurity plans are necessary to ensure that all possible sources of introduction of HPAI onto a premises are addressed and mitigated. The former effort can be conducted through paper-based audits, the latter effort cannot.

Comments Regarding Program Standard E

As we mentioned above, Program Standard E in the NPIP Program Standards articulates biosecurity principles that are used both within the context of APHIS' HPAI and LPAI control programs. Two commenters stated that the principles in Program Standard E are widely used within NPIP as both the template for producer biosecurity plans and as the baseline for checklists used by OSAs in order to evaluate those plans, and that changes to Program Standard E could have cascading implications.

We understand the commenters' concerns, however, the changes to Program Standard E that we proposed were not to the principles listed in that standard and as such, the commenters' concerns are outside the scope of this rule.

Timelines and Publishing Recommendations

One commenter noted that § 147.48 of the regulations requires APHIS to publish the recommendations of an NPIP Biennial Conference in the Federal Register within 14 months following the Biennial Conference, and pointed out that this did not occur with the proposed rule. The commenter indicated that a practical ramification of the delayed publication of the proposed rule was that the 2022 recommendations had not been codified prior to the submission date for regulatory changes for the 2024 Biennial Conference. The commenter stated that this created logistical challenges because the status of the 2022 Biennial Conference recommendations was not yet known at the time of the submission deadline. The commenter exhorted APHIS to adhere to the 14-month deadline in the future to avoid such complications going forward and expressed concerns regarding the regulations pertaining to publication within a 14-month timeframe for conference recommendations in the Federal Register. First, the commenter emphasized the significance of timeliness for the proper review, approval, and circulation of NPIP provisions prior to the next NPIP Biennial Conference proposal submission deadline. Then, the commenter discussed practical challenges faced by the GCC when the recommendations are not published before the Biennial Conference including a slower rate of accepting proposal changes for future regulatory revisions when the fate of previous recommendations remained unknown. In short, the commenter urged the prioritization of any 2024 NPIP Biennial Conference recommendation reviews to assist with efficiency.

We recognize the commenter's concerns regarding the timeliness of the proposed rule, and will strive to adhere to the 14-month deadline going forward. However, factors outside of the Agency's control can influence publication timelines. For example, the 2022-2024 HPAI outbreak in poultry was the largest animal health emergency in U.S. history and required widespread and prolonged deployment of APHIS personnel with avian health experience.

Lastly, upon review of the proposed rule, we have identified some minor typographical and syntactical errors within its regulatory text. In this rule, we have corrected them to ensure the regulatory text is accurate and reflects Agency intent.

Therefore, for the reasons given, we are adopting the proposed rule as a final rule, with the changes noted above.

Executive Orders 12866 and Regulatory Flexibility Act

This final rule has been determined to be not significant for the purposes of Executive Order 12866 and, therefore, has not been reviewed by the Office of Management and Budget. Further, because this rule is not significant, it is not a regulatory action under Executive Order 14192.

This rulemaking will result in various changes to regulations in 9 CFR parts 56, and 145 through 147, modifying provisions of the NPIP. The modifications were recommended by the NPIP General Conference Committee (GCC), which represents cooperating State agencies and poultry industry members and advises the Secretary on issues pertaining to poultry health. These amendments will, among other things, condition indemnity for LPAI on adherence to biosecurity plans, clarify existing provisions of the regulations, fix editorial errors, and align the regulations more closely with current producer practices.

The establishments affected by this rulemaking—principally entities engaged in poultry production and processing—are predominantly small by Small Business Administration standards. In those instances in which an addition or modification potentially results in a cost to certain entities, we do not expect the costs to be significant. This rule embodies changes decided upon by the NPIP GCC on behalf of Plan members, that is, changes recognized by the poultry industry as in their interest. We note that NPIP membership is voluntary.

Under these circumstances, the Administrator of the Animal and Plant Health Inspection Service has determined that this action, if promulgated, will not have a significant economic impact on a substantial number of small entities.

Executive Order 12372

This program/activity is listed in the Catalog of Federal Domestic Assistance under No. 10.025 and is subject to Executive Order 12372, which requires intergovernmental consultation with State and local officials. (See 2 CFR chapter IV.)

Executive Order 12988

This final rule has been reviewed under Executive Order 12988, Civil Justice Reform. This rule: (1) Preempts all State and local laws and regulations that are in conflict with this rule; (2) has no retroactive effect; and (3) does not require administrative proceedings before parties may file suit in court challenging this rule.

Paperwork Reduction Act

In accordance with section 3507(d) of the Paperwork Reduction Act of 1995 (44 U.S.C. 3501 et seq.), the reporting, recordkeeping, and third-party disclosure requirements described in this final rule are currently approved by the Office of Management and Budget (OMB) under OMB control numbers 0579-0007 and 0579-0440.

E-Government Act Compliance

The Animal and Plant Health Inspection Service is committed to compliance with the E-Government Act to promote the use of the internet and other information technologies, to provide increased opportunities for citizen access to Government information and services, and for other purposes. For information pertinent to E-Government Act compliance related to this notice, please contact APHIS.PRA@usda.gov.

Congressional Review Act

Pursuant to the Congressional Review Act (5 U.S.C. 801 et seq.), the Office of Information and Regulatory Affairs has designated this action as a rule that is not a major rule, as defined by 5 U.S.C. 804(2).

List of Subjects

9 CFR Part 56

Animal diseases, Indemnity payments, Low pathogenic avian influenza, Poultry.

9 CFR Parts 145, 146, and 147

Animal diseases, Poultry and poultry products, Reporting and recordkeeping requirements.

Accordingly, we are amending 9 CFR parts 56, 145, 146, and 147 as follows:

PART 56—CONTROL OF H5/H7 LOW PATHOGENIC AVIAN INFLUENZA

1. The authority citation for part 56 continues to read as follows:

Authority: 7 U.S.C. 8301-8317; 7 CFR 2.22, 2.80, and 371.4.

2. Amend § 56.1 as follows:

a. By adding in alphabetical order a definition for “National Poultry Improvement Plan (NPIP) Program Standards”; and

b. By revising the definition for “Virus elimination (VE)”.

The addition and revision read as follows:

§ 56.1 Definitions.

* * * * *

National Poultry Improvement Plan (NPIP) Program Standards. A document that contains tests and sanitation procedures approved by the Administrator pursuant to § 147.53 of this chapter. This document may be obtained from the National Poultry Improvement Plan website at https://www.poultryimprovement.org/ or by writing to the Service at National Poultry Improvement Plan, APHIS, USDA, 1506 Klondike Road, Suite 301, Conyers, GA 30094.

* * * * *

Virus elimination (VE). Cleaning and disinfection or other measures conducted to destroy or eliminate all AI virus on the premises.

3. Amend § 56.2 by adding an OMB citation at the end of the section to read as follows:

§ 56.2 Cooperation with States.

* * * * *

(Approved by the Office of Management and Budget under control number 0579-0440)

4. Amend § 56.3 by revising paragraphs (a)(3) and (b) and adding an OMB citation at the end of the section to read as follows:

§ 56.3 Payment of indemnity and/or compensation.

(a) * * *

(3) Virus elimination (VE) measures taken on premises, conveyances, and materials that came into contact with poultry that were infected with or exposed to H5/H7 LPAI; or, in the case of materials, if the cost of the VE measures would exceed the value of the materials or the VE measures would be impracticable for any reason, the destruction and the disposal of the materials.

(b) Percentage of costs eligible for indemnity and/or compensation. The Administrator is authorized to pay 100 percent of the costs eligible for indemnity and/or compensation, as determined in accordance with § 56.4, of the activities described in paragraphs (a)(1) through (3) of this section, provided that the conditions in paragraph (b)(1) or (2) of this section apply. For infected or exposed poultry that are not described in the categories below, the Administrator is authorized to pay 25 percent of the costs eligible for indemnity and/or compensation of the activities described in paragraphs (a)(1) through (3) of this section:

(1)(i) The poultry are from:

(A) A commercial table-egg laying premises with at least 75,000 birds; or

(B) A meat-type chicken slaughter plant that slaughters at least 200,000 meat-type chickens in an operating week; or

(C) A meat-type turkey slaughter plant that slaughters at least 2 million meat-type turkeys in a 12-month period; or

(D) A meat-type game bird and waterfowl slaughter plant that slaughters at least 50,000 birds annually; or

(E) A raised-for-release game bird premises, raised-for-release waterfowl premises, and egg-type game bird or waterfowl producing eggs for human consumption premises that raise at least 25,000 birds annually and have at least 5,000 birds onsite; or

(F) A breeder flock premises with at least 5,000 birds; and

(ii) The breeding flock, commercial flock, or slaughter plant participates in the U.S. Avian Influenza Clean, H5/H7 Avian Influenza Clean, or U.S. H5/H7 Avian Influenza Monitored program of the Plan available to the flock in part 145 or 146 of this chapter; and

(iii) The owner of the poultry or eggs, and, if applicable, any party that enters into a contract with the owner to grow or care for the poultry or eggs, had in place and was following a biosecurity plan that was in compliance with biosecurity principles approved by the Administrator (within the National Poultry Improvement Plan (NPIP) Program Standards, Standard E pertains to Biosecurity Principles) and has been audited by the Official State Agency to ensure that the biosecurity plan is in compliance at the time of detection of H5/H7 LPAI; or

(2) The flock does not meet the size requirements as described in paragraph (b)(1) of this section, regardless of whether the infected or exposed poultry participate in the Plan.

(3) The Administrator is authorized to pay 25 percent of the costs eligible for indemnity and/or compensation, as determined in accordance with § 56.4, of the activities described in paragraphs (a)(1) through (3) of this section, for flocks that:

(i) Do not meet the conditions described in paragraph (b)(1) or (2) of this section; or

(ii) Are located in a State that does not participate in the diagnostic surveillance program for H5/H7 LPAI, as described in § 146.14 of this chapter, or that does not have an initial State response and containment plan for H5/H7 LPAI that is approved by APHIS under § 56.10, unless such poultry participate in the Plan with another State that does participate in the diagnostic surveillance program for H5/H7 LPAI, as described in § 146.14 of this chapter, and has an initial State response and containment plan for H5/H7 LPAI that is approved by APHIS under § 56.10 surveillance program for H5/H7 LPAI, as described in § 146.14 of this chapter, or that does not have an initial State response and containment plan for H5/H7 LPAI that is approved by APHIS under § 56.10, unless such poultry participate in the Plan with another State that does participate in the diagnostic surveillance program for H5/H7 LPAI, as described in § 146.14 of this chapter, and has an initial State response and containment plan for H5/H7 LPAI that is approved by APHIS under § 56.10.

* * * * *

(Approved by the Office of Management and Budget under control number 0579-0440)

5. Amend § 56.4 by revising the OMB citation at the end of the section to read as follows:

§ 56.4 Determination of indemnity and/or compensation amounts.

* * * * *

(Approved by the Office of Management and Budget under control numbers 0579-0007 and 0579-0440)

6. Amend § 56.5 as follows:

a. By redesignating paragraphs (c)(1)(ii) to (iv) as paragraphs (c)(1)(iii) to (v), respectively, and adding a new paragraph (c)(1)(ii);

b. By revising newly redesignated paragraph (c)(1)(iv); and

c. By adding an OMB citation at the end of the section.

The additions and revision read as follows:

§ 56.5 Destruction and disposal of poultry and cleaning and disinfection (virus elimination) of premises, conveyances, and materials.

* * * * *

(c) * * *

(1) * * *

(ii) Poultry will be monitored daily for the development of additional and/or increased severity of clinical signs with scheduled flock observation, tracking, and recording flock(s) mortality, taking action as directed by the Official State Agency.

* * * * *

(iv) Routes to slaughter must avoid other commercial poultry operations whenever possible. All load-out equipment, trailers, and trucks used on the premises that have housed poultry that were infected with or exposed to H5/H7 LPAI must undergo virus elimination procedures and not enter other poultry premises or facilities for 48 hours after the virus elimination procedures have been completed.

* * * * *

(Approved by the Office of Management and Budget under control number 0579-0440)

7. Amend § 56.6 by revising the OMB citation at the end of the section to read as follows:

§ 56.6 Presentation of claims for indemnity and/or compensation.

* * * * *

(Approved by the Office of Management and Budget under control numbers 0579-0007 and 0579-0440)

8. Revise and republish § 56.10 to read as follows:

§ 56.10 Initial State response and containment plan.

(a) In order for poultry owners within a State to be eligible for indemnity and/or compensation for 100 percent of eligible costs under § 56.3(b), the State in which the poultry participate in the Plan must have in place an initial State response and containment plan that has been approved by APHIS. The initial State response and containment plan must be developed by the Official State Agency. In States where the Official State Agency is different than the Cooperating State Agency, the Cooperating State Agency must also participate in the development of the initial State response and containment plan. The initial State response and containment plan must be administered by the Cooperating State Agency of the relevant State. This response and containment plan must include:

(1) Provisions for a standing emergency disease management committee, regular meetings, and exercises, including coordination with any tribal governments that may be affected;

(2) A biosecurity plan for poultry owners based on their flock size as stated in § 56.3 and, if applicable, any party that enters into a contract with the owner to grow or care for the poultry or eggs that had in place and was following a biosecurity plan that was audited by the Official State Agency to ensure that the biosecurity plan was in compliance according to the Program Standards, Standard E pertaining to the Biosecurity Principles as approved by the Administrator;

(3) Provisions for adequate diagnostic resources;

(4) Detailed, specific procedures for initial handling and investigation of suspected cases of H5/H7 LPAI;

(5) Detailed, specific procedures for reporting test results to APHIS. These procedures must be developed after appropriate consultation with poultry producers in the State and must provide for the reporting only of confirmed cases of H5/H7 LPAI in accordance with § 146.13 of this chapter;

(6) Detailed, strict quarantine measures for presumptive and confirmed index cases;

(7) Provisions for developing flock plans for infected and exposed flocks;

(8) Detailed plans for disposal of infected flocks, including preexisting agreements with regulatory agencies and detailed plans for carcass disposal, disposal sites, and resources for conducting disposal, and detailed plans for disposal of materials that come into contact with poultry infected with or exposed to H5/H7 LPAI;

(9) Detailed plans for cleaning and disinfection of premises, repopulation, and monitoring after repopulation;

(10) Provisions for appropriate control/monitoring zones, contact surveys, and movement restrictions;

(11) Provisions for monitoring activities in control zones;

(12) If vaccination is considered as an option, a written plan for use in place with proper controls and provisions for APHIS approval of any use of vaccine;

(13) Plans for H5/H7 LPAI-negative flocks that provide for quarantine, testing, and controlled marketing; and

(14) Public awareness and education programs regarding avian influenza.

(b) If a State is designated a U.S. Avian Influenza Monitored State, Layers under 146.24 (a) of this chapter or a U.S. Avian Influenza Monitored State, Turkeys under § 146.44(a) of this chapter, it will lose that status during any outbreak of H5/H7 LPAI and for 90 days after the destruction and disposal of all infected or exposed birds and cleaning and disinfection of all affected premises are completed.

(Approved by the Office of Management and Budget under control numbers 0579-0007 and 0579-0440.)

Subchapter G [Amended]

9. Amend Subchapter G, consisting of §§ 145.1 through 147.54, by:

a. Removing the words “S. gallinarum” wherever they appear, and adding the words “Salmonella Gallinarum” in their place;

b. Removing the words “S. pullorum” wherever they appear, and adding the words “Salmonella Pullorum” in their place; and

c. Removing and the words “S. enteritidis” and “Salmonella enteritidis ser enteritidis” wherever they appear, and adding the words “Salmonella Enteritidis” in their place.

PART 145—NATIONAL POULTRY IMPROVEMENT PLAN FOR BREEDING POULTRY

10. The authority citation for part 145 continues to read as follows:

Authority: 7 U.S.C. 8301-8317; 7 CFR 2.22, 2.80, and 371.4.

11. Amend § 145.1 as follows:

a. By revising the definition of “Fowl typhoid or typhoid”;

b. In the definition for “Hatchery”, by adding the words “and/or embryonated eggs” after the words “baby poultry”;

c. In the definition for “Multiplier breeding flock”, by removing the word “hatching” and adding the word “fertile” in its place;

d. By revising the definition of “Pullorum disease or pullorum”;

e. In the definition for “Reactor”, by adding a sentence after the last sentence; and

f. By adding in alphabetical order a definition for “Salmonella Enteritidis”.

The revisions and additions read as follows:

§ 145.1 Definitions.

* * * * *

Fowl typhoid or typhoid. A disease of poultry caused by Salmonella enterica subspecies enterica serovar Gallinarum biovar Gallinarum (Salmonella Gallinarum).

* * * * *

Pullorum disease or pullorum. A disease of poultry caused by Salmonella enterica subspecies enterica serovar Gallinarum biovar Pullorum (Salmonella Pullorum).

Reactor. * * * A reactor is considered suspect until additional confirmatory testing has been conducted by an authorized laboratory or Federal Reference Laboratory as outlined in § 145.14.

* * * * *

Salmonella Enteritidis. A bacteria found in poultry caused by Salmonella enterica subspecies enterica serovar Enteritidis (Salmonella Enteritidis).

* * * * *

§ 145.2 [Amended]

12. Amend § 145.2 in paragraph (d), by removing the citation “§ 145.3(e)” and adding the citation “§ 145.3(f)” in its place.

§ 145.5 [Amended]

13. Amend § 145.5, in paragraph (c), by removing the text “Subparts B, C, D, E, F, G, H, or I” and adding the text “Subparts B, C, D, E, F, G, H, I or J” in its place.

14. Amend § 145.10 by:

a. In paragraph (b), removing the text “and 145.93(b)” and adding the text “145.93(b), and 145.103(b)” in its place;

b. In paragraph (g), removing the text “and 145.94(a)” and adding the text “145.94(a), and 145.104(a)” in its place;

c. In paragraph (o), removing the text “and 145.93(d)” and adding the text “145.93(d), and 145.103(d)” in its place;

d. In paragraph (t), removing the text “and 145.93(c)” and adding the text “145.93(c), and 145.103(c)” in its place; and

e. Adding paragraphs (u), (v), and (w).

The additions read as follows:

§ 145.10 Terminology and classification; flocks, products, and States.

* * * * *

(u) U.S. Newcastle Clean. (See §§ 145.43(h), 145.73(h), and 145.83(h).)

Figure 22

(v) U.S. Avian Influenza Clean Compartment. (See §§ 145.45, 145.74, and 145.84.)

Figure 23

(w) U.S. Newcastle Disease Clean Compartment. (See §§ 145.45, 145.74, and 145.84.)

Figure 24

15. Amend § 145.14 as follows:

a. By revising the introductory text;

b. In paragraph (a)(1), by adding the text “(within the Program Standards document, Program Standard A applies to blood testing; alternatives to the program standards may also be approved by the Administrator under § 145.73 of this chapter)” after the word “subchapter” in the second sentence;

c. In paragraph (a)(5), by removing the text “and 145.93” and adding the text “145.93, and 145.103” in its place; and

d. By revising paragraph (a)(6)(ii).

The revisions read as follows:

§ 145.14 Testing.

Poultry must be more than 4 months of age when tested for an official classification with the following exceptions: Turkey candidates under subpart D of this part may be tested at more than 12 weeks of age; game bird candidates under subpart E or subpart J of this part may be tested when more than 4 months of age or upon reaching sexual maturity, whichever comes first; and ostrich, emu, rhea, and cassowary candidates under subpart F of this part may be tested when more than 12 months of age. Samples for official tests shall be collected by an Authorized Agent, Authorized Testing Agent, or State Inspector and tested by an authorized laboratory, except that the stained antigen, rapid whole-blood test for pullorum-typhoid may be conducted by an Authorized Testing Agent or State Inspector. Testing must be conducted as specified within the Subpart Plan program, with at least 1 bird tested from each pen and unit in the house and a minimum of 30 birds tested per house. The ratio of samples collected from male and female birds must be representative of birds throughout the house and flock. In houses containing fewer than 30 birds other than ostriches, emus, rheas, and cassowaries, all birds in the house must be tested, unless otherwise specified within the Plan program.

(a) * * *

(6) * * *

(ii) Reactors to the standard tube agglutination test (in dilutions of 1:50 or greater) or the microagglutination test (in dilutions of 1:40 or greater) shall be submitted to an authorized laboratory for bacteriological examination. If there are more than four reactors in a flock, a minimum of four reactors shall be submitted to the authorized laboratory; if the flock has four or fewer reactors, all of the reactors must be submitted. Bacteriological examination must be conducted in accordance with part 147 of this subchapter (within the Program Standards document, Program Standard B addresses bacteriological examination procedures; alternatives to the program standards may also be approved by the Administrator under § 145.73). When reactors are submitted to the authorized laboratory within 10 days of the date of reading an official blood test named in paragraph (a)(6)(i) of this section, and the bacteriological examination fails to demonstrate pullorum-typhoid infection, the Official State Agency shall presume that the flock is determined not to be infected with Salmonella Pullorum or Salmonella Gallinarum.

* * * * *

16. Amend § 145.33 as follows:

a. By removing paragraph (d)(1)(viii) and removing the semicolon after paragraph (d)(1)(vii) and adding a period in its place;

b. By adding paragraph (l)(1)(iv);

c. By removing and reserving paragraph (l)(2);

d. In paragraph (m)(2)(i), by adding the words “by the company” after the words “shall be conducted”; and

e. By removing and reserving paragraphs (m)(2)(ii) through (iv).

The addition reads as follows:

§ 145.33 Terminology and classification; flocks and products.

* * * * *

(l) * * *

(1) * * *

(iv) Fifteen (15) birds are tested and found negative for avian influenza within 21 days prior to movement to slaughter regardless of the date of the previous test.

* * * * *

17. Amend § 145.43 as follows:

a. By revising paragraph (c)(1);

b. In paragraph (d)(1)(i), by adding the words “or 60 samples from mixed male and female flocks (the ratio of samples collected from male and female birds must be representative of birds throughout the house)” after the words “from female flocks”;

c. By adding and reserving paragraph (d)(1)(ii);

d. In paragraph (d)(5), by removing the word “block” and adding the word “flock” in its place;

e. In paragraph (e)(1), by adding the words “or 60 samples from mixed male and female flocks (the ratio of samples collected from male and female birds must be representative of birds throughout the house)” after the words “from female flocks” in the first sentence;

f. By removing paragraph (f)(5) and redesignating paragraph (f)(6) as paragraph (f)(5) and paragraph (f)(7) as paragraph (f)(6);

g. By revising paragraph (h)(3)(i);

h. By removing paragraph (h)(3)(ii) and redesignating paragraph (h)(3)(iii) as paragraph (h)(3)(ii); and

i. By revising the OMB citation at the end of the section.

The addition and revisions read as follows:

§ 145.43 Terminology and classification; flocks and products.

* * * * *

(c) * * *

(1) A flock maintained in accordance with part 147 of this subchapter with respect to Mycoplasma isolation, sanitation, and management, and in which no M. Gallisepticum infected birds are found when a random sample of at least 10 percent of the birds in the flock, or 300 birds in flocks of more than 300 and each bird in flocks of 300 or less, is tested when more than 12 weeks of age, in accordance with the procedures described in § 145.14(b); provided, that to retain this classification, a minimum of 30 samples from male flocks and 60 samples from female flocks or 60 samples from mixed, male and female flocks (the ratio of samples collected from male and female birds must be representative of birds throughout the house) shall be retested at 28-30 weeks of age and at 4-6 week intervals thereafter.

* * * * *

(d) * * *

(1) * * *

(ii) [Reserved]

* * * * *

(h) * * *

(3) * * *

(i) A minimum of 30 birds per flock must test negative using an approved test in § 145.14 at intervals of 90 days or a sample of fewer than 30 birds may be tested, and found negative, at any one time if all pens are equally represented and a total of 30 birds is tested within each 90-day period; and

* * * * *

(Approved by the Office of Management and Budget under control number 0579-0007)

18. Amend § 145.45 by revising the OMB citation at the end of the section to read as follows:

§ 145.45 Terminology and classification; compartments.

* * * * *

(Approved by the Office of Management and Budget under control number 0579-0007)

§ 145.53 [Amended]

19. Amend § 145.53, paragraph (e) introductory text by removing the words “hobbyist or exhibition waterfowl, exhibition poultry, and game bird” and adding the words “hobbyist and exhibition poultry, and raised-for-release waterfowl” in their place in the second sentence.

20. Amend § 145.73 as follows:

a. In paragraph (d)(1)(i), by adding the words “serogroup D” after the words “Cultures from” in the last sentence;

b. In paragraph (g)(1)(v), by removing the words “and shall be reported to the Official State Agency on a monthly basis” and adding a sentence at the end of the paragraph;

c. In paragraph (g)(1)(vi), by removing the words “to allow for the serological testing required under paragraph (g)(1)(iv) of this section” and adding the words “to allow for serological testing” in their place;

d. By revising paragraph (h)(3)(i);

e. By removing paragraph (h)(3)(ii) and redesignating paragraph (h)(3)(iii) as paragraph (h)(3)(ii); and

f. By revising the OMB citation at the end of the section.

The addition and revisions read as follows:

§ 145.73 Terminology and classification; flocks and products.

* * * * *

(g) * * *

(1) * * *

(v) * * * Owners of flocks shall report the presence or absence of Salmonella in their flocks on a monthly basis to the Official State Agency.

* * * * *

(h) * * *

(3) * * *

(i) A minimum of 30 birds per flock must test negative using an approved test in § 145.14 at intervals of 90 days or a sample of fewer than 30 birds may be tested, and found negative, at any one time if all pens are equally represented and a total of 30 birds is tested within each 90-day period; and

* * * * *

(Approved by the Office of Management and Budget under control number 0579-0007)

21. Amend § 145.74 by revising the OMB citation at the end of the section to read as follows:

§ 145.74 Terminology and classification; compartments.

* * * * *

(Approved by the Office of Management and Budget under control number 0579-0007)

22. Amend § 145.83 as follows:

a. In paragraph (e)(6)(i)(C), by removing the words “Salmonella pullorum” and adding the words “Salmonella Pullorum” in their place in the first sentence;

b. In paragraph (f)(1)(iv), by revising the third sentence and adding a sentence at the end of the paragraph;

c. In paragraph (f)(1)(v), by removing the words “to allow for the serological testing required under paragraph (f)(1)(iv) of this section” and adding the words “to allow for serological testing” in their place;

d. In paragraph (f)(1)(vi), by removing the words “minimum of a 2-week period” and adding the words “maximum of a 4-week period” in their place in the first sentence;

e. By revising paragraph (h)(3)(i);

f. By removing paragraph (h)(3)(ii) and redesignating paragraph (h)(3)(iii) as paragraph (h)(3)(ii); and

g. By revising the OMB citation at the end of the section.

The addition and revisions read as follows:

§ 145.83 Terminology and classification; flocks and products.

* * * * *

(f) * * *

(1) * * *

(iv) * * * All Salmonella isolates from a flock shall be serogrouped. Owners of flocks shall report the presence or absence of Salmonella in their flocks on a monthly basis to the Official State Agency;

* * * * *

(h) * * *

(3) * * *

(i) A minimum of 30 birds per flock must test negative using an approved test in § 145.14 at intervals of 90 days or a sample of fewer than 30 birds may be tested, and found negative, at any one time if all pens are equally represented and a total of 30 birds is tested within each 90-day period; and

* * * * *

(Approved by the Office of Management and Budget under control number 0579-0007)

23. Amend § 145.84 as follows:

a. In paragraph (a)(3)(iii), by adding the words “and/or ND Clean” after the words “Influenza Clean”; and

b. By revising the OMB citation at the end of section.

The revision reads as follows:

§ 145.84 Terminology and classification; compartments.

* * * * *

(Approved by the Office of Management and Budget under control number 0579-0007)

24. Amend § 145.102, by revising paragraph (e) to read as follows:

§ 145.102 Participation.

* * * * *

(e) Under this subpart, gallinaceous flocks and waterfowl flocks may not be raised on the same premises. If they are on the same premises, they must be registered under subpart E of this part.

* * * * *

§ 145.103 [Amended]

25. Amend § 145.103, paragraph (b)(3) introductory text by removing the words “to reveal Pullorum-Typhid” and adding the words “to reveal Pullorum-Typhoid” in their place.

PART 146—NATIONAL POULTRY IMPROVEMENT PLAN FOR COMMERCIAL POULTRY

26. The authority citation for part 146 continues to read as follows:

Authority: 7 U.S.C. 8301-8317; 7 CFR 2.22, 2.80, and 371.4.

§ 146.3 [Amended]

27. Amend § 146.3 as follows:

a. In paragraph (a), by removing the words “raised-for-release upland game bird premises, and raised-for-release waterfowl premises and any commercial upland game bird, commercial waterfowl” and adding the words “egg/meat-type game bird, egg/meat-type waterfowl” in their place; and

b. In paragraph (c), by removing the words “commercial upland game bird, commercial waterfowl” and adding the words “egg/meat-type game bird, egg/meat-type waterfowl” in their place in the first sentence.

§ 146.6 [Amended]

28. Amend § 146.6 as follows:

a. In paragraph (a), by removing the words “commercial upland game bird, commercial waterfowl” and adding the words “meat-type game bird, meat-type waterfowl” in their place; and

b. In paragraph (b), by removing the words “commercial upland game bird and commercial waterfowl” and adding the words “meat-type game bird and meat-type waterfowl” in their place.

§ 146.9 [Amended]

29. Amend § 146.9, in paragraph (a), by removing the text “and (b)”.

30. Amend Subpart E, consisting of §§ 146.51 to 146.53, by revising the subpart heading to read as follows:

Subpart E—Special Provisions for Egg/Meat-Type Game Birds, Egg/Meat-Type Waterfowl, Meat-Type Game Bird Slaughter Plants, and Meat-Type Waterfowl Slaughter Plants

PART 147—AUXILIARY PROVISIONS ON NATIONAL POULTRY IMPROVEMENT PLAN

31. The authority citation for part 147 continues to read as follows:

Authority: 7 U.S.C. 8301-8317; 7 CFR 2.22, 2.80, and 371.4.

32. In § 147.46, revise paragraph (a)(9) to read as follows:

§ 147.46 Committee consideration of proposed changes.

(a) * * *

(9) Egg/meat-type game birds and waterfowl.

* * * * *

33. In § 147.52, revise paragraph (f)(2) to read as follows:

§ 147.52 Authorized laboratories.

* * * * *

(f) * * *

(2) All Salmonella Pullorum and Mycoplasma Plan disease infected flocks as confirmed by testing in accordance with § 145.14 must be reported to the Official State Agency within 48 hours.

* * * * *

Done in Washington, DC, this 26th day of September 2025.
Michael Watson,
Administrator, Animal and Plant Health Inspection Service.

[FR Doc. 2025-19017 Filed 9-29-25; 8:45 am]

BILLING CODE 3410-34-P